DEPARTMENT OF COMMERCE

International Trade Administration

[A-122-822]

Certain Corrosion-Resistant Carbon Steel Flat Products From Canada: Final Results of Antidumping Duty Administrative Review

AGENCY: Import Administration, International Trade Administration, U.S. Department of Commerce.

SUMMARY: On September 13, 2004, the Department of Commerce (Department) published the preliminary results of its administrative review of the antidumping duty order on certain corrosion-resistant carbon steel flat products (CORE) from Canada. See Certain Corrosion-Resistant Carbon Steel Flat Products From Canada: Preliminary Results of Antidumping Duty Administrative Review, 69 FR 55138 (September 13, 2004) (Preliminary Results). The review covers shipments of this merchandise to the United States for the period August 1, 2002, through July 31, 2003, by Stelco Inc. (“Stelco”) and the group of Dofasco Inc., Sorevco Inc., and Do Sol Galva Ltd. (“Dofasco”).

We gave interested parties an opportunity to comment on our preliminary results. Based on our analysis of comments, we have made changes to the preliminary results. For the final dumping margins see the “Final Results of Review” section below.

EFFECTIVE DATE: March 21, 2005.

FOR FURTHER INFORMATION CONTACT: Sean Carey or Candice Kenney Weck, AD/CVD Operations, Office 6, Import Administration, International Trade Administration, U.S. Department of Commerce, 14th Street and Constitution Avenue, NW., Washington, DC 20230; telephone: (202) 482-3964 or (202) 482-0938, respectively.

SUPPLEMENTARY INFORMATION:

Background

On September 13, 2004, the Department published the Preliminary Results. On October 8, 2004, the Department requested additional cost information regarding its model match characteristic regarding surface type. Dofasco submitted its response to this questionnaire on October 22, 2004.

We gave interested parties an opportunity to comment on our Preliminary Results. On November 9, 2004 we received case briefs from Russel Metals Export (“Russel”) and Parkdale International (“Parkdale”), both are resellers and interested parties. On November 9, 2004, we received case briefs from Dofasco and United States Steel Corporation (“Petitioner”). On November 15, 2004, Dofasco withdrew Argument III from its case brief. On November 15, 2004, Petitioner filed two rebuttal briefs addressing comments submitted by Dofasco, Russel, and Parkdale. Stelco did not submit any briefs, and none of the parties requested a hearing. The Department has now completed this review in accordance with section 751 of the Tariff Act of 1930, as amended (the Act).

Scope of the Review

The product covered by this antidumping duty order is certain corrosion-resistant steel, and includes flat-rolled carbon steel products, of rectangular shape, either clad, plated, or coated with corrosion-resistant metals such as zinc, aluminum, or zinc-, aluminum-, nickel-or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (HTS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090. Included in this order are corrosion-resistant flat-rolled products of non-rectangular cross-section where such cross-section is achieved subsequent to the rolling process (i.e., products which have been “worked after rolling”)— for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%-60%-20% ratio.

Analysis of Comments Received

All issues raised in the case and rebuttal briefs by parties to this administrative review are addressed in the Issues and Decision Memorandum for the Final Results of the Administrative Review of the Antidumping Duty Order on Certain Corrosion-Resistant Carbon Steel Flat Products From Canada, from Barbara E. Tillman to Joseph A. Spetrini, dated March 14, 2004 (Decision Memo), which is hereby adopted by this notice.

A list of the issues which parties have raised and to which we have responded, all of which are in the Decision Memo, is attached to this notice as an appendix. Parties can find a complete discussion of all issues raised in this review and the corresponding recommendations in this public memorandum, which is on file in the Central Records Unit, room B-099 of the main Commerce Building. In addition, a complete version of the Decision Memo can be accessed directly on the Web at http://ia.ita.doc.gov. The paper copy and electronic version of the Decision Memo are identical in content.

Changes Since the Preliminary Results

Based on our analysis of comments received, we have made certain changes in the margin calculations for Dofasco. Any alleged programming or ministerial errors are discussed in the relevant section of the Decision Memo, accessible in room B-099 and on the Web at http://ia.ita.doc.gov. As a result of these changes, Dofasco's rate is no longer de minimis. We have made no changes to Stelco's margin for these final results.

Final Results of Review

As a result of this review, we find that the following weighted-average dumping margins exist for the period August 1, 2002, through July 31, 2003:

Manufacturer/exporter | Margin (percent)
Dofasco Inc., Sorevco, Inc., Do Sol Galva Ltd. | 2.31
Stelco Inc. | 0.02

Duty Assessment and Cash Deposit Requirements

The Department shall determine, and Customs and Border Protection (CBP) shall assess, antidumping duties on all appropriate entries. The Department will issue appropriate appraisement instructions directly to CBP within 15 days of publication of the final results of review. Furthermore, the following deposit rates will be effective with respect to all shipments of certain corrosion-resistant carbon steel flat products from Canada entered, or withdrawn from warehouse, for consumption on or after the publication date of the final results, as provided for by section 751(a)(2)(C) of the Act: (1) For Dofasco, the cash deposit rate will be the rate indicated above; (2) for Steloco, the rate is de minimis and therefore, there is no cash deposit requirement; (3) for previously reviewed or investigated companies not listed above, the cash deposit rate will be the company-specific rate established for the most recent period; (4) if the exporter is not a firm covered in this review, a prior review, or the less-than-fair-value (LTFV) investigation, but the manufacturer is, the cash deposit rate will be the rate established for the most recent period for the manufacturer of the subject merchandise; and (5) for all other producers and/or exporters of this merchandise, the cash deposit rate shall be the “all other” rate established in the LTFV investigation, which is 18.71 percent. The deposit rate, when imposed, shall remain in effect until publication of the final results of the next administrative review.

Notification of Interested Parties

This notice also serves as a final reminder to importers of their responsibility under § 351.402(f)(2) of the Department's regulations to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the disposition of proprietary information disclosed under APO as explained in the administrative order itself. Timely written notification of the return/destruction of APO materials or conversion to judicial protective order is hereby requested. Failure to comply with the regulations and terms of an APO is a sanctionable violation.

This administrative review and notice are in accordance with sections 751(a)(1)(A) and 777(i)(1) of the Act.

Dated: March 14, 2005.
Joseph A. Spetrini
Acting Assistant Secretary for Import Administration.

Appendix—List of Issues

1. Surface Type Characteristics for Model Match

2. New Assessment Policy for Resellers

3. Treatment of Channel “2” Sales

4. Calculation of CEP Profit

5. Sales Subject to Review

6. Margin Program Adjustments

7. Normal Value Currency Conversion

8. Identification of DJG in Customs Instructions

9. Inclusion of Importer in Liquidation Instructions

[FR Doc. E5-1218 Filed 3-18-05; 8:45 am]

BILLING CODE 3510-DS-P